DEPARTMENT OF LABOR

Employment and Training Administration

[TA-W-65,121]

Custom Screens, Inc., Madison, NC; Notice of Termination of Investigation

Pursuant to Section 221 of the Trade Act of 1974, as amended, an investigation was initiated on February 4, 2009 in response to a worker petition filed by a company official on behalf of workers of Custom Screens, Inc., Madison, North Carolina.

The petitioner has requested that the petition be withdrawn. Consequently, the investigation has been terminated.

Signed at Washington, DC, this 9th day of February 2009.
Richard Church,
Certifying Officer, Division of Trade Adjustment Assistance.

[FR Doc. E9-3737 Filed 2-20-09; 8:45 am]

BILLING CODE 4510-FN-P